DEPARTMENT OF THE INTERIOR

Bureau of Safety and Environmental Enforcement

[Billing Code: 14XE1700DX EX1SF0000.DAQ000 EEEE010000]

Notice of Voluntary Confidential Near-Miss Reporting System Public Workshop

AGENCY: Bureau of Safety and Environmental Enforcement, Interior.

ACTION: Notice.

SUMMARY: The U.S. Department of the Interior's Bureau of Safety and Environment Enforcement (BSEE) and the Department of Transportation's Bureau of Transportation Statistics (BTS) have signed an interagency agreement to have BTS develop a Voluntary Confidential Near-Miss Reporting System for use on the Outer Continental Shelf (OCS). The BTS will maintain control of the individual confidential reports but will provide trend analysis and aggregated data to BSEE and the public. The BSEE is announcing two public workshops to discuss the Voluntary Confidential Near-Miss Reporting System.

DATES: The workshops will be held on April 22, 2014, between 9:00 a.m. and 1:00 p.m. (Pacific Standard Time) and on April 24, 2014, between 9:00 a.m. and 1:00 p.m. (Central Standard Time).

FOR FURTHER INFORMATION CONTACT: Andre King, Office of Offshore Regulatory Programs, 703-787-1845, email: andre.king@bsee.gov.

SUPPLEMENTARY INFORMATION: In August 2013, BSEE and BTS signed an interagency agreement to develop a Voluntary Confidential Near-Miss Reporting System for use on the Outer Continental Shelf (OCS). The BTS will maintain control of the individual confidential reports but will provide trend analysis and aggregated data to BSEE and the public The goals of the Voluntary Confidential Near Miss Reporting System are (a) to provide BSEE, offshore companies and workers and all other OCS stakeholders with an opportunity to confidentially submit essential information to BTS about accident precursors and hazards associated with OCS oil and gas operations and (b) to provide all stakeholders with aggregated data and analysis that—in conjunction with incident reports and other sources of information can be used to reduce those hazards and continue building a more robust OCS safety culture.

The BSEE is announcing two public workshops to discuss the Voluntary Confidential Near-Miss Reporting System. The workshops will include presentations by BSEE and BTS and a time for questions and discussion. The purpose of the workshops is to provide the offshore oil and gas industry and other stakeholders with an understanding of the Voluntary Confidential Near Miss Reporting program and an opportunity to contribute to the development of the program. The first workshop will be held on April 22, 2014, at the Radisson Hotel at Los Angeles Airport 6225 W. Century Blvd. Los Angeles, CA 90045. The second workshop will be held on April 24, 2014, at the Houston Airport Marriott at George Bush International, 18700 John F. Kennedy Blvd. Houston, TX 77032.

If you are planning to attend the workshop, BSEE and BTS request that you register by April 11, 2014 at the following web address: http://www.bsee.gov/near-miss-workshop/.

Douglas W. Morris,
Chief, Office of Offshore Regulatory Programs, Bureau of Safety and Environmental Enforcement.

[FR Doc. 2014-07010 Filed 3-27-14; 8:45 am]

BILLING CODE 4310-VH-P